DEPARTMENT OF TRANSPORTATION

Federal Highway Administration

Notice of Final Federal Agency Actions on Transportation Project in Washington State

AGENCY: Federal Highway Administration (FHWA), Department of Transportation (DOT).

ACTION: Notice of Limitation on Claims for Judicial Review.

SUMMARY: This notice announces actions taken by the FHWA that are final. The action relates to the SR 510 Yelm Loop—New Alignment Phase 2 Project, located in the City of Yelm, Thurston County. The Project will construct approximately three miles of new highway composed of one travel lane in each direction, starting at Cullens Road (at the terminus of Phase 1) and ending at the intersection of SR 507 and 170th Street. The highway will be classified limited access between Cullens Road and 103rd Avenue, and managed access between 103rd Avenue and SR 507.

The FHWA's National Environmental Policy Act (NEPA) Finding of No Significant Impact (FONSI) provides details on the Selected Alternative for the proposed improvements.

DATES: A claim seeking judicial review of the Federal agency actions on the listed highway project will be barred unless the claim is filed on or before September 8, 2025. If the Federal law that authorizes judicial review of a claim provides a time period of less than 150 days for filing such claim, then that shorter time period still applies.

FOR FURTHER INFORMATION CONTACT: Liana Liu, P.E., Area Engineer, Federal Highway Administration, 711 S Capitol Way, Suite 501, Olympia, WA 98501-1284, (360) 753-9553, liana.liu@dot.gov or Washington.FHWA@dot.gov, or Victoria Book, Environmental & Hydraulics Manager, WSDOT Olympic Region, P.O. Box 47440, Olympia, WA 98504-7440, (360) 570-6707, victoria.book@wsdot.wa.gov.

SUPPLEMENTARY INFORMATION: Notice is hereby given that FHWA has taken final agency actions within the meaning of 23 U.S.C. 139(l)(1) by issuing a NEPA FONSI for the SR 510 Yelm Loop—New Alignment Phase 2 Project in Thurston County, Washington. The action(s) by FHWA and the laws under which such actions were taken, are described in the FONSI and the associated agency records. That information is available by contacting FHWA at the addresses provided above.

The project will complete construction of a two-phased limited access highway located in the City of Yelm. The project will provide a new east-west roadway to reduce congestion in Yelm's downtown core. The new road would minimize intersections and prohibit driveway access in order to increase capacity, shorten travel times, and reduce the potential for collisions. A FONSI for the project was signed on March 12, 2025.

Information about the FONSI and associated records are available from FHWA at the addresses provided above and can be found at: https://wsdot.wa.gov/construction-planning/search-projects/sr-510-yelm-loop-new-alignment-phase-2. This notice applies to all Federal agency decisions related to the FONSI as of the issuance date of this notice and all laws under which such actions were taken, including but not limited to:

1. General: National Environmental Policy Act (NEPA) [42 U.S.C. 4321-4347]; Federal-Aid Highway Act [23 U.S.C. 109].

2. Air: Clean Air Act, as amended [42 U.S.C. 7401-7671(q)].

3. Land: Section 6(f) of the Land and Water Conservation Fund Act of 1965 [16 U.S.C. 4601]; Section 4(f) of the Department of Transportation Act of 1966 [49 U.S.C. 303].

4. Wildlife: Endangered Species Act [16 U.S.C. 1531-1544 and 1536]. Fish and Wildlife Coordination Act [16 U.S.C. 661-667(d)]. Migratory Bird Treaty Act [16 U.S.C. 703-712]. Bald and Golden Eagle Protection Act [16 U.S.C. 668-668c]. Magnuson-Stevens Fishery Conservation and Management Act of 1976, as amended [16 U.S.C. 1801 et seq.].

5. Historic and Cultural Resources: Section 106 of the National Historic Preservation Act of 1966, as amended [16 U.S.C. 470(f) et seq.]; Archaeological and Historic Preservation Act [16 U.S.C. 469-469(c)];

6. Social and Economic: Civil Rights Act of 1964 [42 U.S.C. 2000d et seq.]; Farmland Protection Policy Act [7 U.S.C. 4201-4209].

7. Wetlands and Water Resources: Clean Water Act (Section 319, Section 401, Section 402, Section 404) [33 U.S.C. 1251-1377]. Safe Drinking Water Act [42 U.S.C. 300(f) et seq.].

8. Executive Orders: Executive Order 11990 Protection of Wetlands; Executive Order 11988 Floodplain Management; Executive Order 11593 Protection and Enhancement of Cultural Resources; Executive Order 13007 Indian Sacred Sites; Executive Order 13287 Preserve America; Executive Order 13175 Consultation and Coordination with Indian Tribal Governments; Executive Order 11514 Protection and Enhancement of Environmental Quality; Executive Order 13112 Invasive Species; Executive Order 13045 Protection of Children From Environmental Health Risks and Safety Risks.

Authority: 23 U.S.C. 139(l)(1).

Ralph J. Rizzo,
FHWA Division Administrator, Olympia, WA.

[FR Doc. 2025-06104 Filed 4-8-25; 8:45 am]

BILLING CODE 4910-RY-P